DEPARTMENT OF ENERGY

Federal Energy Regulatory Commission

[Docket No. RT01-35-000]

Avista Corporation, et al.; Notice of Filing

October 24, 2000.

Take notice that on October 23, 2000, Avista Corporation, the Bonneville Power Administration, Idaho Power Company, The Montana Power Company, Nevada Power Company, PacifiCorp, Portland General Electric Company, Puget Sound Energy, Inc. and Sierra Pacific Power Company (collectively, the filing utilities) filed a “Supplemental Compliance Filing and Request for Declaratory Order Pursuant to Order 2000” at the Federal Energy Regulatory Commission (Commission) under the Commission's Order 2000 and in accordance with 18 CFR 385.207(a)(2). Among other things, this filing describes the filing utilities' proposal to form a regional transmission organization (referred to as RTO West) that complies with the requirements of the Commission's Order 2000. The filing also requests an expedited declaratory order from the Commission that certain aspects of the proposal, including the proposed governance documents and the scope and configuration of RTO West, are in accordance with applicable requirements under Order 2000.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before November 20, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Beginninng November 1, 2000, comments and protests may be filed electronically via the internet in lieu of paper. See, 18 CFR 385.2001(a)(1)(iii) and the instructions on the Commission's web site at http://www.ferc.fed.us/efi/doorbell.htm.

David P. Boergers,
Secretary.

[FR Doc. 00-27767 Filed 10-27-00; 8:45 am]

BILLING CODE 6717-01-M